DEPARTMENT OF DEFENSE

Department of the Army

Surplus Properties

AGENCY: Department of the Army, DoD.

ACTION: Notice.

SUMMARY: This amended notice provides information regarding the properties that have been determined surplus to the United States needs in accordance with the Defense Base Closure and Realignment Act of 1990, Public Law 101-510, as amended, and the 2005 Base Closure and Realignment Commission Report, as approved, and following screening with Federal agencies and Department of Defense components. This Notice amends the Notice published in the Federal Register on August 7, 2009 (74 FR 39680).

DATES: Effective August 12, 2011, by updating the acreage and contact information as indicated below for the following surplus property.

FOR FURTHER INFORMATION CONTACT: Headquarters, Department of the Army, Assistant Chief of Staff for Installation Management, Base Realignment and Closure (BRAC) Division, Attn: DAIM-BD, 600 Army Pentagon, Washington, DC 20310-0600, (703) 601-2418. For information regarding the specific property listed below, contact the Army BRAC Division at the mailing address above or at BRAC2005@hqda.army.mil.

SUPPLEMENTARY INFORMATION: Under the provisions of the Federal Property and Administrative Services Act of 1949, as amended, the Defense Base Closure and Realignment Act of 1990, as amended, and other public benefit conveyance authorities, this surplus property may be available for conveyance to State and local governments and other eligible entities for public benefit purposes. Notices of interest from representatives of the homeless, and other interested parties located in the vicinity of any listed surplus property should be submitted to the recognized Local Redevelopment Authority (LRA). Additional information for this or any Army BRAC 2005 surplus property may be found at http://www.hqda.army.mil/acsimweb/brac/braco.htm.

Surplus Property List

1. Addition

District of Columbia

Walter Reed Army Medical Center, (a portion of, comprising approximately 67.5 acres) 6900 Georgia Ave, NW., Washington, DC 20307.

The Army's Base Transition Coordinator is Mr. Randy Treiber whose e-mail address is randal.treiber@us.army.mil and his telephone number is (202) 782-7389. His mailing address is Walter Reed Army Medical Center, Base Transition Coordinator, 6900 Georgia Ave, NW., Washington, DC 20307.

The Government of the District of Columbia has been recognized as the LRA. The LRA is located at 1350 Pennsylvania Avenue, NW., Suite 317, Washington, DC 20004. The LRA's point of contact is Mr. Eric D. Jenkins, Office of the Deputy Mayor for Planning and Economic Development. He can be reached for information by calling (202) 727-6365.

Authority: This action is authorized by the Defense Base Closure and Realignment Act of 1990, Title XXIX of the National Defense Authorization Act for Fiscal Year 1991, Pub. L. 101-510; the Base Closure Community Redevelopment and Homeless Assistance Act of 1994, Pub. L. 103-421; and 10 U.S.C. 113.

Dated: August 4, 2011.
Carla K. Carlson,
Assistant for Construction.

[FR Doc. 2011-20517 Filed 8-11-11; 8:45 am]

BILLING CODE 3710-08-P